DEPARTMENT OF HOMELAND SECURITY

U.S. Citizenship and Immigration Services

Agency Information Collection Activities: Proposed Collection; Comment Request, Affidavit of Support Under Section 213A of the Act

ACTION: 60-Day Notice of Information Collection Under Review: Extension, without change, of a currently approved collection; Form I-864, Affidavit of Support Under Section 213A of the Act; Form I-864A, Contract Between Sponsor and Household Member, Form I-864 EZ, Affidavit of Support Under Section 213A of the Act; Form I-864W, Intending Immigrant's Affidavit of Support Exemption; OMB Control No. 1615-0075.

The Department of Homeland Security, U.S. Citizenship and Immigration Services (USCIS) will be submitting the following information collection request for review and clearance in accordance with the Paperwork Reduction Act of 1995. The information collection notice is published in the Federal Register to obtain comments from the public and affected agencies. Comments are encouraged and will be accepted for sixty days until July 31, 2012.

Written comments and suggestions regarding items contained in this notice, and especially with regard to the estimated public burden and associated response time should be directed to the Department of Homeland Security (DHS), USCIS, Office of Policy and Strategy, Laura Dawkins, Acting Chief, Regulatory Coordination Division, 20 Massachusetts Avenue NW., Washington, DC 20529. Comments may also be submitted to DHS via facsimile to 202-272-8352, or via email at uscisfrcomment@dhs.gov. When submitting comments by email add the OMB Control Number 1615-0075 in the subject box.

Written comments and suggestions from the public and affected agencies should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, without change, of a currently approved collection.

(2) Title of the Form/Collection: Affidavit of Support Under Section 213A of the Act.

(3) Agency form number, if any, and the applicable component of the Department of Homeland Security sponsoring the collection: Form I-864, Affidavit of Support Under Section 213A of the Act; Form I-864A, Contract Between Sponsor and Household Member, Form I-864EZ, Affidavit of Support Under Section 213A of the Act; Form I-864W, Intending Immigrant's Affidavit of Support Exemption.

(4) Affected public who will be asked or required to respond, as well as a brief abstract: Individuals or households. These forms are used by family-based and certain employment-based immigrants to have the petitioning relative execute an Affidavit of Support on their behalf.

(5) An estimate of the total number of respondents and the amount of time estimated for an average respondent to respond: Form I-864, 439,500 responses at 6 hours per response; Form I-864A, 215,800 responses at 1.75 hours per response; Form I-864EZ, 100,000 responses at 2.5 hours per response; Form I-864W, 1,000 responses at 1 hour per response.

(6) An estimate of the total public burden (in hours) associated with the collection: 3,265,650 Hours.

If you have additional comments, suggestions, or need a copy of the proposed information collection instrument with instructions, or additional information, please visit the Federal eRulemaking Portal site at: http://www.regulations.gov. You may also contact USCIS, Office of Policy and Strategy, Regulatory Coordination Division, 20 Massachusetts Avenue NW., Washington, DC 20529, Telephone number 202-272-8377.

Dated: May 25, 2012.
Laura Dawkins,
Acting Chief, Regulatory Coordination Division, Office of Policy and Strategy, U.S. Citizenship and Immigration Services, Department of Homeland Security.

[FR Doc. 2012-13261 Filed 5-31-12; 8:45 am]

BILLING CODE 9111-97-P